DEPARTMENT OF COMMERCE

National Oceanic and Atmospheric Administration

[I.D. 121200E]

Pacific Fishery Management Council; Public Meeting

AGENCY: National Marine Fisheries Service (NMFS), National Oceanic and Atmospheric Administration (NOAA), Commerce.

ACTION: Notice of public meeting.

SUMMARY: The Pacific Fishery Management Council's (Council) Ad-Hoc Groundfish Management Process Committee (GMPC) will hold a work session, which is open to the public.

DATES: The GMPC will meet Thursday, January 11, 2001, 2 p.m. to 5 p.m. and Friday, January 12, 2001, from 8 a.m. until business for the day is completed.

ADDRESSES: The work session will be held at the Pacific States Marine Fisheries Commission, Large Conference Room, 45 SE 82nd Drive, Suite 100, Gladstone, OR 97027; telephone: (503) 650-5400.

Council address: Pacific Fishery Management Council, 2130 SW Fifth Avenue, Suite 224, Portland, OR 97201.

FOR FURTHER INFORMATION CONTACT: Dan Waldeck or Don McIsaac, Pacific Fishery Management Council; (503) 326-6352.

SUPPLEMENTARY INFORMATION: The formation of this Ad-Hoc committee is in response to a Council request (November 2000) for a formal review of the current groundfish management process. Thus, the primary purpose of this work session is to review the Council's annual groundfish management process. Specifically, the GMPC will discuss problems associated with the current process and options to address these problems. The GMPC will also begin development of recommendations for changes to the process. The recommendations of the GMPC will be reviewed at the March 2001 Council meeting.

Although non-emergency issues not contained in the GMPC meeting agenda may come before the GMPC for discussion, those issues may not be the subject of formal GMPC action during the meeting. GMPC action will be restricted to those issues specifically listed in this document and any issues arising after publication of this document that require emergency action under section 305(c) of the Magnuson-Stevens Act, provided the public has been notified of the GMPC's intent to take final action to address the emergency.

Special Accommodations

The meeting is physically accessible to people with disabilities. Requests for sign language interpretation or other auxiliary aids should be directed to Ms. Carolyn Porter at (503) 326-6352 at least 5 days prior to the meeting date.

Dated: December 12, 2000.
Richard W. Surdi,
Acting Director, Office of Sustainable Fisheries, National Marine Fisheries Service.

[FR Doc. 00-32166 Filed 12-15-00; 8:45 am]

BILLING CODE: 3510-22 -S